ENVIRONMENTAL PROTECTION AGENCY

[FRL-8738-6]

Proposed CERCLA Administrative Cost Recovery Settlement; City of Waterbury, CT, Chase Brass & Copper Site, Watertown, CT

AGENCY: Environmental Protection Agency (EPA).

ACTION: Notice of proposed settlement; request for public comment.

SUMMARY: In accordance with Section 122(i) of the Comprehensive Environmental Response Compensation, and Liability Act, as amended (“CERCLA”), 42 U.S.C. 9622(i), notice is hereby given of a proposed administrative settlement for recovery of past costs concerning the Chase Brass & Copper Superfund Site in Watertown, Connecticut with the following settling party: City of Waterbury, Connecticut. The settlement requires the settling party to pay $75,000 to the Hazardous Substance Superfund. The settlement includes a covenant not to sue for the settling party pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate.

The Agency's response to any comments received will be available for public inspection at One Congress Street, Boston, MA 02114-2023.

DATES: Comments must be submitted by December 8, 2008.

ADDRESSES: Comments should be addressed to Mary Jane O'Donnell, Chief, ME/VT/CT Superfund Section, U.S. Environmental Protection Agency, Region I, One Congress Street, Suite 1100 (HBT), Boston, Massachusetts 02114-2023 (Telephone No. 617-918-1371) and should refer to: In re: Chase Brass & Copper Superfund Site, U.S. EPA Docket No. 01-2008-0010.

FOR FURTHER INFORMATION CONTACT: A copy of the proposed settlement may be obtained from Mary Jane O'Donnell, Chief, ME/VT/CT Superfund Section, U.S. Environmental Protection Agency, Region I, One Congress Street, Suite 1100 (HBT), Boston, Massachusetts 02114-2023 (Telephone No. 617-918-1371; E-mail odonnell.maryjane@ epa.gov).

Dated: September 8, 2008.
James T. Owens, III,
Director, Office of Site Remediation and Restoration, Region 1.

[FR Doc. E8-26670 Filed 11-6-08; 8:45 am]

BILLING CODE 6560-50-P